ENVIRONMENTAL PROTECTION AGENCY

[FRL-7908-2]

Intent To Grant a Co-Exclusive Patent License

AGENCY: Environmental Protection Agency (EPA).

ACTION: Notice of intent to grant a co-exclusive license.

SUMMARY: Pursuant to 35 U.S.C. 207 (Patents) and 37 CFR part 404 (U.S. Government patent licensing regulations), EPA hereby gives notice of its intent to grant a co-exclusive, royalty-bearing, revocable license to practice the invention described and claimed in the U.S. patent application entitled Method for Isolating and Using Fungal Hemolysins, filed May 30, 2001, U.S. Serial Number 09/866,793, and all corresponding patents issued throughout the world, and all reexamined patents and reissued patents granted in connection with such patent application, to Roche Diagnostics Corporation, Indianapolis, Indiana, and to Aerotech Laboratories, Phoenix, Arizona.

The invention was announced as being available for licensing in the May 12, 2003 issue of the Federal Register (68 FR 25371) as U.S. Patent Application Number 09/866,793, filed May 30, 2001, and claiming priority from a provisional application filed June 1, 2000.

The proposed co-exclusive license will contain appropriate terms, limitations, and conditions to be negotiated in accordance with 35 U.S.C. 209 and 37 CFR 404.5 and 404.7 of the U.S. Government patent licensing regulations.

EPA will negotiate the final terms and conditions and grant the co-exclusive license, unless within 15 days from the date of this notice EPA receives, at the address below, written objections to the grant, together with supporting documentation. The documentation from objecting parties having an interest in practicing the above patents should include an application for an exclusive or nonexclusive license with the information set forth in 37 CFR 404.8. The EPA Patent Attorney and other EPA officials will review all written responses and then make recommendations on a final decision to the Director or Deputy Director of the National Exposure Research Laboratory who have been delegated the authority to issue patent licenses under EPA Delegation 1-55.

DATES: Comments on this notice must be received by EPA at the address listed below by May 20, 2005.

FOR FURTHER INFORMATION CONTACT: Laura Scalise, Patent Attorney, Office of General Counsel (Mail Code 2377A), Environmental Protection Agency, Washington, DC 20460, telephone (202) 564-8303.

Dated: April 27, 2005.
Marla E. Diamond,
Associate General Counsel, Finance and Operations Law Office.

[FR Doc. 05-8986 Filed 5-4-05; 8:45 am]

BILLING CODE 6560-50-P